DEPARTMENT OF LABOR

Occupational Safety and Health Administration

[Docket No. OSHA-2013-0012]

Proposed Modification to the List of Appropriate NRTL Program Test Standards and the Scope of Recognition of Several NRTLs

AGENCY: Occupational Safety and Health Administration (OSHA), Labor.

ACTION: Notice.

SUMMARY: In this notice, OSHA proposes to delete test standards from the Nationally Recognized Testing Laboratories (NRTL) Program's list of appropriate test standards and modify the scope of recognition of several NRTLs.

DATES: Submit comments, information, and documents in response to this notice, or request for an extension of time to make a submission, on or before August 11, 2023.

ADDRESSES: Comments may be submitted as follows:

Electronically: You may submit comments, including attachments, electronically at: http://www.regulations.gov, the Federal eRulemaking Portal. Follow the online instructions for submitting comments.

OSHA will place comments, including personal information, in the public docket, which will be available online. Therefore, OSHA cautions interested parties about submitting personal information such as Social Security numbers and birthdates.

Instructions: All submissions must include the agency's name and the docket number for this rulemaking (Docket No. OSHA-2013-0012). All comments, including any personal information you provide, are placed in the public docket without change and may be made available online at https://www.regulations.gov. Therefore, OSHA cautions commenters about submitting information they do not want made available to the public, or submitting materials that contain personal information (either about themselves or others), such as Social Security numbers and birthdates.

Docket: To read or download comments or other material in the docket, go to http://www.regulations.gov. Documents in the docket (including this Federal Register notice) are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Extension of comment period: Submit requests for an extension of the comment period on or before August 11, 2023 to the Office of Technical Programs and Coordination Activities, Directorate of Technical Support and Emergency Management, Occupational Safety and Health Administration, U.S. Department of Labor, 200 Constitution Avenue NW, Room N-3653, Washington, DC 20210.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, telephone: (202) 693-2110 or email: robinson.kevin@dol.gov.

SUPPLEMENTARY INFORMATION:

I. Background

The NRTL Program recognizes organizations that provide product-safety testing and certification services to manufacturers. These organizations perform testing and certification for purposes of the program, to U.S. consensus-based product-safety test standards. The products covered by the NRTL Program consist of those items for which OSHA safety standards require “certification” by a NRTL. The requirements affect electrical products and 36 other types of products. OSHA does not develop or issue these test standards, but generally relies on standards development organizations (SDOs), which develop and maintain the standards using a method that provides for input and consideration of views of industry groups, experts, users, consumers, governmental authorities, and others having broad experience in the safety field involved.

A. Deletion and Replacement of Test Standards

The NRTL Program regulations require that appropriate test standards be maintained and current (29 CFR 1910.7(c)). A test standard withdrawn by an SDO is no longer considered an appropriate test standard (CPL 01-00-004, NRTL Program Policies, Procedures and Guidelines Directive (NRTL Program Directive), Ch. 2.IX.C.1). It is OSHA's policy to remove recognition of withdrawn test standards by issuing a correction notice in the Federal Register for all NRTLs recognized for the withdrawn test standards (Id.). However, SDOs frequently will designate a replacement standard for withdrawn standards. OSHA will recognize a NRTL for an appropriate replacement test standard if the NRTL has the requisite testing and evaluation capability for the replacement test standard (NRTL Program Directive, Ch. 2.IX.C.2).

One method that NRTLs may use to show such capability involves an analysis to determine whether any testing and evaluation requirements of existing test standards in a NRTL's scope are comparable (i.e., are completely or substantially identical) to the requirements in the replacement test standard (NRTL Program Directive, Ch. 2.IX.C.3). If OSHA's analysis shows the replacement test standard does not require additional or different technical capability than an existing test standard(s), and the replacement test standard is comparable to the existing test standard(s), then OSHA can add the replacement test standard to affected NRTLs' scope of recognition. If OSHA's analysis shows the replacement test standard requires an additional or different technical capability, or the replacement test standard is not comparable to any existing test standards, each affected NRTL seeking to have OSHA add the replacement test standard to the NRTL's scope of recognition must provide information to OSHA that demonstrates technical capability (NRTL Program Directive, Ch. 2.IX.D).

B. Other Reasons for Removal of Test Standards From the NRTL List of Appropriate Test Standards

OSHA may choose to remove a test standard from the NRTL list of appropriate test standards based on an internal review in which NRTL Program staff review the NRTL list of appropriate test standards to determine if the test standards conform to the definition of an appropriate test standard defined in NRTL Program regulations and policy. There are several reasons for removing a test standard based on this review. First, a document that provides the methodology for a single test is a test method rather than an appropriate test standard (29 CFR 1910.7(c)). A test standard must specify the safety requirements for a specific type of product(s) (NRTL Program Directive, Ch. 2.VIII.C.1). A test method, however, is a specified technical procedure for performing a test. As such, a test method is not an appropriate test standard. While a NRTL may use a test method to determine if certain safety requirements are met, a test method is not itself a safety requirement for a specific product category.

Second, a document that focuses primarily on usage, installation, or maintenance requirements, and not safety requirements (i.e., features, parts, capabilities, usage limitations, or installation requirements that would create a potential hazard in operating the equipment if not properly used), would also not be considered an appropriate test standard (NRTL Program Directive, Ch. 2.VIII.C.1). In some cases, however, a document may also provide safety test specifications in addition to usage, installation, and maintenance requirements. In such cases, the document would be retained as an appropriate test standard based on the safety test specifications.

Finally, a document may not be considered an appropriate test standard if the document covers products for which OSHA does not require testing and certification (NRTL Program Directive, Ch. 2.VIII.C.2). Similarly, a document that covers electrical product components would not be considered an appropriate test standard. These documents apply to types of components that have limitation(s) or condition(s) on their use, which are not appropriate for use as end-use products. These documents also specify that these types of components are for use only as part of an end-use product. NRTLs, however, evaluate such components only in the context of evaluating whether end-use products requiring NRTL approval are safe for use in the workplace. Accordingly, as a matter of policy, OSHA considers that documents covering such components are not appropriate test standards under the NRTL Program. OSHA notes, however, that it is not proposing to delete from NRTLs' scope of recognition any test standards covering end-use products that contain such components.

In addition, OSHA notes that, to conform to a test standard covering an end-use product, a NRTL must still determine that the components in the product comply with the components' specific test standards. In making this determination, NRTLs may (within the confines of the requirements of Annex B, Section 7.4 G and H of the NRTL Program Policies, Procedures, and Guidelines, OSHA Instruction CPL 01-00-004 (Oct. 1, 2019) (the NRTL Program Directive, available at https://www.osha.gov/sites/default/files/enforcement/directives/CPL_01-00-004.pdf)) test the components themselves or accept the testing of a qualified testing organization that a given component conforms to the particular test standard. OSHA reviews each NRTL's procedures to determine which approach the NRTL will use to address components and reviews the end-use product testing to verify that the NRTL appropriately addresses that product's components.

II. Proposal To Delete Test Standards From the NRTL Program's List of Appropriate Test Standards and Incorporate Into the List of Appropriate Test Standards a Replacement Test Standard for a Withdrawn Test Standard

In this notice, OSHA proposes to delete twenty-six test standards from the NRTL Program's list of appropriate test standards. OSHA also proposes to incorporate two replacement standards into the NRTL Program's list of appropriate test standards.

Table 1 lists the test standards that OSHA proposes to delete from the NRTL Program's List of Appropriate Test Standards, as well as an abbreviated rationale for OSHA's proposed action. Additionally, Table 1 lists the replacement test standard that OSHA proposes to incorporate into the NRTL Program's List of Appropriate Test Standards. OSHA seeks comment on this preliminary determination.

OSHA notes that Table 1 lists the subject test standards and the proposed action with regard to each of these test standards without indicating how the proposed action will affect individual NRTLs. Section III of this notice discusses how the proposed action will affect individual NRTLs.

Table 1—Test Standards OSHA Is Proposing To Remove From NRTL Program's List of Appropriate Test Standards
Proposed deleted test standard | Test standard title | Reason for deletion | Proposed replacement standard
ANSI/AAMI ES60601-1:2005/(R)2012 | Medical Electrical Equipment, Part 1: General Requirements for Basic Safety and Essential Performance (with amendments) | Standard has been amended by a SDO | ANSI/AAMI ES 60601-1 Medical Electrical Equipment—Part 1: General Requirements for Basic Safety and Essential Performance.
AAMI ES60601-1:2005/(R)2012 | Medical Electrical Equipment, Part 1: General Requirements for Basic Safety and Essential Performance (with amendments) | Standard has been amended by a SDO
AAMI ES60601-1 | Medical Electrical Equipment, Part 1: General Requirements for Basic Safety and Essential Performance (with amendments) | Standard has been amended by a SDO
UL 60601-1 | Medical Electrical Equipment, Part 1: General Requirements for Safety | Withdrawn | None.
UL 60730-1A | Automatic Electrical Controls for Household and Similar Use; Part 1: General Requirements | Standard has been amended by a SDO | UL 60730-1 Automatic Electrical Controls—Part 1: General Requirements.
IEEE C37.013 | AC High-Voltage Generator Circuit Breakers Rated on a Symmetrical Current Basis | Withdrawn | None.
IEEE C37.46 | Power Fuses and Fuse Disconnecting Switches | Withdrawn | None.
IEEE C37.47 | Distribution Fuse Disconnecting Switches, Fuse Supports, and Current-Limiting Fuses | Withdrawn | None.
ISA 82.02.02 | Electrical Equipment for Measurement, Control and Laboratory Use | Withdrawn | None.
NFPA 16 | Installation of Foam Water Sprinkler and Foam-Water Spray Systems | Withdrawn | None.
UL 17 | Vent or Chimney Connector Dampers for Oil-Fired Appliances | Withdrawn | None.
UL 250 | Household Refrigerators and Freezers | Withdrawn | None.
UL 474 | Dehumidifiers | Withdrawn | None.
UL 664 | Commercial (Class IV) Electric Dry-Cleaning Machines | Withdrawn | None.
UL 745-2-5 | Particular Requirements for Circular Saws and Circular Knives | Withdrawn | None.
UL 745-2-14 | Particular Requirements for Planers | Withdrawn | None.
UL 745-2-35 | Particular Requirements for Drain Cleaners | Withdrawn | None.
UL 873 | Electrical Temperature-Indicating and-Regulating Equipment | Withdrawn | None.
UL 984 | Hermetic Refrigerant Motor-Compressors | Withdrawn | None.
UL 1028 | Electric Hair-Clipping and -Shaving Appliances | Withdrawn | None.
UL 1054 | Special-Use Switches | Withdrawn | None.
UL 1626 | Residential Sprinklers for Fire Protection Service | Withdrawn | None.
UL 1662 | Electric Chain Saws | Withdrawn | None.
UL 1767 | Early-Suppression Fast-Response Sprinklers | Withdrawn | None.
UL 65 | Electric Wired Cabinets | Withdrawn | None.
UL 508C | Power Conversion Equipment | Withdrawn | None.

III. Proposed Modifications to Affected NRTLs' Scope of Recognition

In this notice, OSHA additionally proposes to remove test standards (i.e., those listed in Table 1, above) from the scopes of recognition of several NRTLs and to add to the scopes of recognition of some of these NRTLs replacement test standards, as applicable. The tables in this section (Table 2 through Table 16) list, for each affected NRTL, the test standard(s) that OSHA proposes to remove from the scope of recognition of the NRTL, along with the proposed replacement test standard(s) (as applicable).

Table 2—Test Standard OSHA Proposes To Remove From/Add to the Scope of Recognition of Bureau Veritas Consumer Products Services, Inc.
Proposed test standard to be removed | Reason for proposed removal | Proposed replacement test standard(s) (if applicable)
ANSI/AAMI ES60601-1:2005/(R)2012 | Standard has been amended by a SDO | ANSI/AAMI ES 60601-1 Medical Electrical Equipment—Part 1: General Requirements for Basic Safety and Essential Performance.

Table 3—Test Standard OSHA Proposes To Remove From/Add to the Scope of Recognition of CSA Group Testing & Certification Inc.
Proposed test standard to be removed | Reason for proposed removal | Proposed replacement test standard(s) (if applicable)
AAMI ES 60601-1:2005/(R)2012 | Standard has been amended by a SDO | ANSI/AAMI ES 60601-1 Medical Electrical Equipment—Part 1: General Requirements for Basic Safety and Essential Performance.
UL 60601-1 | Withdrawn | None.
UL 60730-1A | Standard has been amended by a SDO | UL 60730-1 Automatic Electrical Controls—Part 1: General Requirements.
IEEE C37.013 | Withdrawn | None.
IEEE C37.46 | Withdrawn | None.
IEEE C37.47 | Withdrawn | None.
UL 65 | Withdrawn | None.
UL 250 | Withdrawn | None.
UL 474 | Withdrawn | None.
UL 508C | Withdrawn | None.
UL 664 | Withdrawn | None.
UL 745-2-14 | Withdrawn | None.
UL 745-2-35 | Withdrawn | None.
UL 873 | Withdrawn | None.
UL 984 | Withdrawn | None.
UL 1028 | Withdrawn | None.
UL 1054 | Withdrawn | None.
UL 1662 | Withdrawn | None.

Table 4—Test Standard OSHA Proposes To Remove From/Add to the Scope Recognition of DEKRA Certification Inc.
Proposed test standard to be removed | Reason for proposed removal | Proposed replacement test standard(s) (if applicable)
AAMI 60601-1 | Standard has been amended by a SDO | ANSI/AAMI ES 60601-1 Medical Electrical Equipment—Part 1: General Requirements for Basic Safety and Essential Performance.

Table 5—Test Standards OSHA Proposes To Remove From/Add to the Scope of Recognition of Eurofins Electrical and Electronic Testing NA, Inc. a/k/a MET Laboratories, Inc.
Proposed test standard to be removed | Reason for proposed removal | Proposed replacement test standard(s) (if applicable)
ANSI/AAMI ES60601-1:2005/(R)2012 | Standard has been amended by a SDO | ANSI/AAMI ES 60601-1 Medical Electrical Equipment—Part 1: General Requirements for Basic Safety and Essential Performance.
UL 60601-1 | Withdrawn | None.
UL 65 | Withdrawn | None.
UL 250 | Withdrawn | None.
UL 474 | Withdrawn | None.
UL 508C | Withdrawn | None.
UL 664 | Withdrawn | None.
UL 745-2-5 | Withdrawn | None.
UL 745-2-14 | Withdrawn | None.
UL 745-2-35 | Withdrawn | None.
UL 1028 | Withdrawn | None.
UL 1054 | Withdrawn | None.
UL 1662 | Withdrawn | None.

Table 6—Test Standard OSHA Proposes To Remove From the Scope of Recognition of FM Approvals
Proposed test standard to be removed | Reason for proposed removal | Proposed replacement test standard(s) (if applicable)
ISA 82.02.02 | Withdrawn | None.
UL 664 | Withdrawn | None.

Table 7—Test Standards OSHA Proposes To Remove From/Add to the Scope of Recognition of Intertek Testing Services NA, Inc.
Proposed test standard to be removed | Reason for proposed removal | Proposed replacement test standard(s) (if applicable)
ANSI/AAMI ES60601-1:2005/(R)2012 | Standard has been amended by a SDO | ANSI/AAMI ES 60601-1 Medical Electrical Equipment—Part 1: General Requirements for Basic Safety and Essential Performance.
UL 60601-1 | Withdrawn | None.
UL 60730-1A | Standard has been amended by a SDO | UL 60730-1 Automatic Electrical Controls—Part 1: General Requirements.
IEEE C37.013 | Withdrawn | None.
IEEE C37.46 | Withdrawn | None.
ISA 82.02.02 | Withdrawn | None.
UL 17 | Withdrawn | None.
UL 65 | Withdrawn | None.
UL 250 | Withdrawn | None.
UL 474 | Withdrawn | None.
UL 508C | Withdrawn | None.
UL 664 | Withdrawn | None.
UL 745-2-14 | Withdrawn | None.
UL 745-2-35 | Withdrawn | None.
UL 873 | Withdrawn | None.
UL 984 | Withdrawn | None.
UL 1028 | Withdrawn | None.
UL 1054 | Withdrawn | None.
UL 1662 | Withdrawn | None.

Table 8—Test Standards OSHA Proposes To Remove From/Add to the Scope of Recognition of Nemko North America, Inc.
Proposed test standard to be removed | Reason for proposed removal | Proposed replacement test standard(s) (if applicable)
ANSI/AAMI ES60601-1:2005/(R)2012 | Standard has been amended by a SDO | ANSI/AAMI ES 60601-1 Medical Electrical Equipment—Part 1: General Requirements for Basic Safety and Essential Performance.
UL 60601-1 | Withdrawn | None.
UL 250 | Withdrawn | None.

Table 9—Test Standards OSHA Proposes To Remove From the Scope of Recognition of NSF International
Proposed test standard to be removed | Reason for proposed removal | Proposed replacement test standard(s) (if applicable)
UL 65 | Withdrawn | None.
UL 250 | Withdrawn | None.
UL 873 | Withdrawn | None.

Table 10—Test Standard OSHA Proposes To Remove From/Add to the Scope of Recognition of QAI Laboratories, LTD
Proposed test standard to be removed | Reason for proposed removal | Proposed replacement test standard(s) (if applicable)
AAMI ES60601-1 | Standard has been amended by a SDO | ANSI/AAMI ES 60601-1 Medical Electrical Equipment—Part 1: General Requirements for Basic Safety and Essential Performance.

Table 11—Test Standard OSHA Proposes To Remove From/Add to the Scope of Recognition of QPS Evaluation Services, Inc.
Proposed test standard to be removed | Reason for proposed removal | Proposed replacement test standard(s) (if applicable)
ANSI/AAMI ES 60601-1: 2005/(R)2012 | Standard has been amended by a SDO | ANSI/AAMI ES 60601-1 Medical Electrical Equipment—Part 1: General Requirements for Basic Safety and Essential Performance.
UL 60601-1 | Withdrawn | None.

Table 12—Test Standard OSHA Proposes To Remove From/Add to the Scope of Recognition of SGS North America, Inc.
Proposed test standard to be removed | Reason for proposed removal | Proposed replacement test standard(s) (if applicable)
ANSI/AAMI ES60601-1:2005/(R)2012 | Standard has been amended by a SDO | ANSI/AAMI ES 60601-1 Medical Electrical Equipment—Part 1: General Requirements for Basic Safety and Essential Performance.
UL 60601-1 | Withdrawn | None.
UL 65 | Withdrawn | None.
UL 250 | Withdrawn | None.
UL 474 | Withdrawn | None.
UL 1028 | Withdrawn | None.

Table 13—Test Standards OSHA Proposes To Remove From/Add to the Scope of Recognition of TUV Rheinland of North America, Inc.
Proposed test standard to be removed | Reason for proposed removal | Proposed replacement test standard(s) (if applicable)
AAMI ES60601-1:2005/(R)2012 | Standard has been amended by a SDO | ANSI/AAMI ES 60601-1 Medical Electrical Equipment—Part 1: General Requirements for Basic Safety and Essential Performance.
UL 60601-1 | Withdrawn | None.
UL 60730-1A | Standard has been amended by a SDO | UL 60730-1 Automatic Electrical Controls—Part 1: General Requirements.
UL 65 | Withdrawn | None.
UL 250 | Withdrawn | None.
UL 474 | Withdrawn | None.
UL 508C | Withdrawn | None.
UL 664 | Withdrawn | None.
UL 745-2-14 | Withdrawn | None.
UL 745-2-35 | Withdrawn | None.
UL 984 | Withdrawn | None.
UL 1028 | Withdrawn | None.
UL 1054 | Withdrawn | None.
UL 1662 | Withdrawn | None.

Table 14—Test Standards OSHA Proposes To Remove From the Scope of Recognition of TÜV SÜD America, Inc.
Proposed test standard to be removed | Reason for proposed removal | Proposed replacement test standard(s) (if applicable)
ANSI/AAMI ES60601-1:2005/(R)2012 | Standard has been amended by a SDO | ANSI/AAMI ES 60601-1 Medical Electrical Equipment—Part 1: General Requirements for Basic Safety and Essential Performance.
UL 60601-1 | Withdrawn | None.
UL 60730-1A | Standard has been amended by a SDO | UL 60730-1 Automatic Electrical Controls—Part 1: General Requirements.
UL 250 | Withdrawn | None.
UL 474 | Withdrawn | None.
UL 508c | Withdrawn | None.
UL 745-2-14 | Withdrawn | None.
UL 745-2-35 | Withdrawn | None.
UL 873 | Withdrawn | None.
UL 984 | Withdrawn | None.
UL 1028 | Withdrawn | None.
UL 1662 | Withdrawn | None.

Table 15—Test Standards OSHA Proposes To Remove From the Scope of Recognition of TÜV SÜD Product Services GmbH
Proposed test standard to be removed | Reason for proposed removal | Proposed replacement test standard(s) (if applicable)
UL 60601-1 | Withdrawn | None.
UL 60730-1A | Standard has been amended by a SDO | UL 60730-1 Automatic Electrical Controls—Part 1: General Requirements
UL 250 | Withdrawn | None.
UL 474 | Withdrawn | None.
UL 745-2-14 | Withdrawn | None.
UL 745-2-35 | Withdrawn | None.
UL 873 | Withdrawn | None.

Table 16—Test Standards OSHA Proposes To Remove From/Add to the Scope of Recognition of UL LLC
Proposed test standard to be removed | Reason for proposed removal | Proposed replacement test standard(s) (if applicable)
ANSI/AAMI ES60601-1:2005/(R)2012 | Standard has been amended by a SDO | ANSI/AAMI ES 60601-1 Medical Electrical Equipment—Part 1: General Requirements for Basic Safety and Essential Performance.
UL 60601-1 | Withdrawn | None.
UL 60730-1A | Standard has been amended by a SDO | None.
IEEE C37.013 | Withdrawn | None.
IEEE C37.46 | Withdrawn | None.
IEEE C37.47 | Withdrawn | None.
UL 17 | Withdrawn | None.
UL 65 | Withdrawn | None.
UL 250 | Withdrawn | None.
UL 474 | Withdrawn | None.
UL 508C | Withdrawn | None.
UL 664 | Withdrawn | None.
UL 745-2-14 | Withdrawn | None.
UL 745-2-35 | Withdrawn | None.
UL 873 | Withdrawn | None.
UL 984 | Withdrawn | None.
UL 1028 | Withdrawn | None.
UL 1054 | Withdrawn | None.
UL 1626 | Withdrawn | None.
UL 1662 | Withdrawn | None.
UL 1767 | Withdrawn | None.

IV. Public Participation

OSHA welcomes public comment on whether the proposed deletions and replacements are appropriate, and whether individual tables omit any appropriate replacement test standard that is comparable to a withdrawn test standard. If OSHA determines that it omitted any appropriate replacement test standard that is comparable to a withdrawn test standard, it will, in the final determination, incorporate that replacement test standard into the scope of recognition of each affected NRTL.

Comments should consist of pertinent written documents and exhibits. Commenters needing more time to comment must submit a request in writing, stating the reasons for the request, by the due date for comments. OSHA will limit any extension to 10 days unless the requester justifies a longer time period. OSHA may deny a request for an extension if it is not adequately justified.

To review copies of comments submitted to the docket, contact the Docket Office, Occupational Safety and Health Administration, U.S. Department of Labor. These materials also are generally available online at https://www.regulations.gov under Docket No. OSHA-2013-0012. For further information, including information on how to contact the Docket Office, see the “Docket” heading in the section of this notice titled ADDRESSES.

OSHA staff will review all comments to the docket submitted in a timely manner and, after addressing the issues raised by these comments, will make a recommendation to the Assistant Secretary for Occupational Safety and Health regarding the removal of recognition of these test standards from the NRTL Program's List of Appropriate Test Standards and to update the scope of recognition of several NRTLs. The Assistant Secretary will make the final decision. In making this decision, the Assistant Secretary may undertake other proceedings prescribed in Appendix A to 29 CFR 1910.7.

OSHA will publish a public notice of this final decision in the Federal Register.

V. Authority and Signature

James S. Frederick, Deputy Assistant Secretary of Labor for Occupational Safety and Health, authorized the preparation of this notice. Accordingly, the agency is issuing this notice pursuant to 29 U.S.C. 657(g)(2), Secretary of Labor's Order No. 8-2020 (85 FR 58393, Sept. 18, 2020), and 29 CFR 1910.7.

Signed at Washington, DC, on July 6, 2023.
James S. Frederick,
Deputy Assistant Secretary of Labor for Occupational Safety and Health.

[FR Doc. 2023-14805 Filed 7-11-23; 8:45 am]

BILLING CODE 4510-26-P